DEPARTMENT OF HOMELAND SECURITY

Coast Guard

33 CFR Part 165

[USCG-2006-25767; CGD09-06-123]

Safety Zones; U.S. Coast Guard Water Training Areas, Great Lakes

AGENCY: Coast Guard, DHS.

ACTION: Notice of public meetings.

SUMMARY: The Coast Guard is announcing that it is adding three more public meetings to its current schedule of public meetings to discuss issues relating to the proposed permanent safety zones located in the Great Lakes to conduct live gunnery training exercises. These meetings will be open to the public and are in addition to the four currently scheduled public meetings.

DATES: The Coast Guard will hold three additional public meetings as follows: Monday, October 30, 2006 in Rochester, NY; Wednesday, November 1, in the Milwaukee, WI/Chicago, IL area; and Friday, November 3, in Charlevoix, MI.

Comments and materials related to these public meetings must reach the Docket Management Facility on or before October 20, 2006. If you are unable to attend, you may submit comments to the Docket Management Facility by November 13, 2006.

You may submit your comments and related material by one of the following means:

(1) By mail to the Docket Management Facility (USCG-2006-2567), U.S. Department of Transportation, room PL-401, 400 Seventh Street, SW., Washington, DC 20590-0001.

(2) By delivery to room PL-401 on the Plaza level of the Nassif Building, 400 Seventh Street SW., Washington, DC between 9 a.m. and 5 p.m. Monday through Friday, except Federal Holidays. The telephone number is 202-366-9329.

(3) By fax to the Docket Management Facility at 202-493-2251.

(4) Electronically through the Web site for the Docket Management System at http://dms.dot.gov.

The Docket Management Facility maintains the public docket for the rulemaking. Comments and material received from the public will become part of this docket and will be available for inspection or copying at room PL-401, located on the Plaza level of the Nassif Building at the same address between 9 a.m. and 5 p.m., Monday through Friday, except Federal holidays. You may electronically access the public docket by performing a “Simple Search” for docket number 25767 on the internet at http://dms.dot.gov.

Electronic forms of all comments received into any of our dockets can be searched by the name of the individual submitting the comment (or signing the comment, if submitted on behalf of an association, business, labor unit, etc.) and is open to the public without restriction. You may review the Department of Transportation's complete Privacy Act Statement in the Federal Register published on April 11, 2000 (65 FR 19477-78), or you may visit http://dms.dot.gov/.

FOR FURTHER INFORMATION CONTACT: For further information concerning this notice and the public meeting, contact Commander Gustav Wulfkuhle, Chief Enforcement Branch, Ninth Coast Guard District, Cleveland, Ohio at (216) 902-6091. If you have any questions on viewing or submitting material to the docket, call Renee V. Wright, Program Manager, Docket Operations, telephone 202-493-0402.

SUPPLEMENTARY INFORMATION:

Public Meetings

The Coast Guard will hold three additional public meetings as follows: Monday, October 30, 2006 in Rochester, NY; Wednesday, November 1, in the Milwaukee WI/Chicago, IL area; and Friday, November 3, in Charlevoix, MI. These meetings will be held to take comments regarding the proposed Safety Zones; U.S. Coast Guard Water Training Areas, Great Lakes, published on August 1, 2006, in the Federal Register at 71 FR 43402. Specific times, locations and additional information for the public meetings will be announced in a subsequent notice in the Federal Register.

The Coast Guard encourages interested persons to submit written data, views, or comments. Persons submitting comments should please include their name and address and identify the docket number (USCG-2006-2567). You may submit your comments and material by mail, hand delivery, fax or electronic means to the Docket Management Facility at the address under ADDRESSES.

Regulatory History

On August 1, 2006, the Coast Guard published a notice of proposed rulemaking (NPRM)(71 FR 43402) to establish permanent safety zones throughout the Great Lakes to conduct live fire gun exercises. The initial comment period for this NPRM ended on August 31, 2006. In response to public requests, the Coast Guard re-opened the comment period on this NPRM. (71 FR 53629, September 12, 2006) Re-opening the comment period from September 12, 2006 to November 13, 2006, provides the public more time to submit comments and recommendations. In addition, the Coast Guard announced on September 19, 2006 it would hold public meetings in Duluth, MN; Grand Haven/Spring Lake, MI; Port Huron/Marysville, MI; and Cleveland, OH to discuss issues related to the proposed permanent safety zones. See, 71 FR 54792. The times and locations of these four meetings were announced in the Federal Register on September 27, 2006. (71 FR 56420)

This document announces the decision to include three additional meetings to the list of currently scheduled public meetings. These added meetings will be held as follows: Monday, October 30, 2006 in Rochester, NY; Wednesday, November 1, in the Milwaukee, WI/Chicago, IL area; and Friday, November 3, in Charlevoix, MI. Specific times, locations and additional information for the public meetings will be announced in a subsequent notice in the Federal Register.

Background and Purpose

These safety zones are necessary to protect vessels and people from hazards associated with live fire gun exercises. Such hazards include projectiles that may ricochet and damage vessels and/or cause death or serious bodily harm. The thirty-four zones will be located throughout the Great Lakes in order to accommodate 56 separate Coast Guard units. The proposed safety zones are all located at least three nautical miles from the shoreline.

Procedural

The meetings are open to the public. Please note that the meetings may close early if all business is finished. If you are unable to attend, you may submit comments to the Docket Management Facility at the address under ADDRESSES by November 13, 2006.

Information on Services for Individuals With Disabilities

If you plan to attend the public meeting and require special assistance, such as sign language interpretation or other reasonable accommodations, please contact us as indicated in FOR FURTHER INFORMATION CONTACT. Requests for special assistance should reach the Coast Guard within seven (7) business days of the meeting.

Dated: October 3, 2006.
John E. Crowley, Jr.,
Rear Admiral, U.S. Coast Guard, Commander, Ninth Coast Guard District.

[FR Doc. E6-16903 Filed 10-11-06; 8:45 am]

BILLING CODE 4910-15-P